SECURITIES AND EXCHANGE COMMISSION

[Release No. 34-96475; File No. SR-NYSECHX-2022-29]

Self-Regulatory Organizations; NYSE Chicago, Inc.; Notice of Withdrawal of a Proposed Rule Change To Amend Article 17, Rule 5

December 12, 2022.

On December 1, 2022, the NYSE Chicago, Inc. (“NYSE Chicago” or the “Exchange”) filed with the Securities and Exchange Commission (“Commission”), pursuant to Section 19(b)(1) of the Securities Exchange Act of 1934 (“Act”) ¹ and Rule 19b-4 thereunder,² a proposed rule change to amend Article 17, Rule 5 of the Exchange's rules to (1) change how Qualified Contingent Trade Cross Orders are handled in the Exchange's Brokerplex® order management system, and (2) make certain non-substantive conforming changes. The proposed rule change was effective upon filing with the Commission pursuant to Section 19(b)(3)(A) of the Act.³ The proposed rule change was published for comment in the Federal Register on December 9, 2022.⁴

¹ 15 U.S.C. 78s(b)(1).

² 17 CFR 240.19b-4.

³ 15 U.S.C. 78s(b)(3)(A).

⁴ See Securities Exchange Act Release No. 96448 (Dec. 5, 2022), 87 FR 75683 (Dec. 9, 2022).

On December 9, 2022, the Exchange withdrew the proposed rule change (SR-NYSECHX-2022-29), which had not yet become operative pursuant to Rule 19b-4(f)(6)(iii).⁵

⁵ 17 CFR 240.19b-4(f)(6)(iii).

⁶ 17 CFR 200.30-3(a)(12).

For the Commission, by the Division of Trading and Markets, pursuant to delegated authority.⁶
Sherry R. Haywood,
Assistant Secretary.

[FR Doc. 2022-27255 Filed 12-15-22; 8:45 am]

BILLING CODE 8011-01-P